DEPARTMENT OF THE INTERIOR

Bureau of Indian Affairs

Request for Comments on Information Collection for Leases and Permits

AGENCY: Bureau of Indian Affairs, Interior.

ACTION: Notice of proposed renewal of an information collection.

SUMMARY: The Bureau of Indian Affairs (BIA) is seeking comments on the proposed renewal of the information collection, Leases and Permits, 1076-0155. This action is required by the Paperwork Reduction Act.

DATES: Submit comments on or before March 26, 2007.

ADDRESSES: Send comments to Ben Burshia, Chief, Division of Real Estate Services, Office of the Deputy Bureau Director, Trust Services, Bureau of Indian Affairs, 1849 C Street NW., Mail Stop 4639-MIB, Washington, DC 20240. Submissions by facsimile should be sent to (202) 219-1065. Electronic submission of comments is not available at this time.

FOR FURTHER INFORMATION CONTACT: You may request further information or obtain copies of the proposed information collection request from Ben Burshia at (202) 219-1195.

SUPPLEMENTARY INFORMATION: This collection of information is being renewed with substantially no change. No changes have been made to Subparts B, C, D or F. We are also adding the filing fee which was omitted during the last clearance.

Request for Comments

The Bureau of Indian Affairs requests your comments on this collection concerning:

(a) The necessity of this information collection for the proper performance of the functions of the agency, including whether the information will have practical utility;

(b) the accuracy of the agency's estimate of the burden (hours and cost) of the collection of information, including the validity of the methodology and assumptions used;

(c) ways we could enhance the quality, utility and clarity of the information to be collected; and

(d) ways we could minimize the burden of the collection of the information on the respondents, such as through the use of automated collection techniques or other forms of information technology.

Please note that an agency may not sponsor or request and an individual need not respond to, a collection of information unless it has a valid OMB Control Number.

It is our policy to make all comments available to the public for review at the location listed in the ADDRESSES section, room 4641, during the hours of 7 a.m. to 4 p.m., EST Monday through Friday except for legal holidays. If you wish to have your name and/or address withheld, you must state this prominently at the beginning of your comments. We will honor your request according to the requirements of the law. All comments from organizations or representatives will be available for review. We may withhold comments from review for other reasons.

Information Collection Abstract

OMB Control Number: 1076-0155.

Type of review: Renewal.

Title: Leases and Permits, 25 CFR 162.

Brief Description of collection: Generally trust and restricted land may be leased by Indian land owners, with the approval of the Secretary of the Interior, except when specified by a specific statute. The Secretary requests information on the documentation collection initiated when processing a lease on land held in trust or restricted status by an individual Indian or tribe. The Secretary requires the information necessary to satisfy 25 CFR 162, the information used to determine approval of a lease, amendment, assignment, sublease, mortgage or related document. No specific form is used; however, in order to satisfy the Federal law, regulation and policy the respondents supply information and data, in accordance with 25 CFR 162.

Respondents: Possible respondents include: Land owners of trust or restricted Indian land, both tribal and individual, wanting to lease their land or someone wanting to lease trust or restricted Indian land.

Number of Respondents: 14,500.

Estimated Time per Response: The time per response varies from 15 minutes to 4 hours.

Frequency of Response: This is a one-time collection per lease approval.

Total Annual Responses: 121,140.

Total Annual Burden to Respondents: 106,065.

Total Annual Fees from Respondents: BIA collects fees for processing submitted documents, as set forth in sections 162.241 or 162.616. The minimum administrative fee is $10.00 and the maximum administrative fee is $500.00. The average total administrative fees collected is $250.00, which is collected approximately 7,500 times, totaling $1,813,000.

Dated: January 22, 2007.
Michael D. Olsen,
Principal Deputy Assistant Secretary—Indian Affairs.

[FR Doc. E7-1117 Filed 1-24-07; 8:45 am]

BILLING CODE 4310-W7-P